DEPARTMENT OF THE TREASURY

Internal Revenue Service

Advisory Committee to the Internal Revenue Service; Meeting

AGENCY: Internal Revenue Service (IRS), Treasury.

ACTION: Notice.

SUMMARY: The Information Reporting Program Advisory Committee (IRPAC) will hold a public meeting on Wednesday, October 28, 2009.

FOR FURTHER INFORMATION CONTACT: Ms. Caryl Grant, National Public Liaison, CL:NPL:SRM, Rm. 7559, 1111 Constitution Avenue, NW., Washington, DC 20224. Telephone: 202-927-3641 (not a toll-free number). E-mail address: *public_liaison@irs.gov.

SUPPLEMENTARY INFORMATION: Notice is hereby given pursuant to section 10(a)(2) of the Federal Advisory Committee Act, 5 U.S.C. App. (1988), a public meeting of the IRPAC will be held on Wednesday, October 28, 2009 from 9 a.m. to 12 p.m. in the Main IRS Building, 1111 Constitution Avenue, NW., Room 3313, Washington, DC. Issues that may be discussed include: reporting of customer's basis in securities transactions, supplemental W-4 instructions and simplification of tax compliance—Non-resident Aliens, proposed regulations under IRC 3402(t) Withholding on Certain Payments Made by Government Entities, TIN masking on payee 1099s, reporting of payments in settlement of payment card and third party network transactions, Form SSA-7028, notice to third party of Social Security number assignment, 5500 enhancements, use of logos on substitute information returns, Section 530 relief, Barter Exchange education, back-up withholding and B-Notice, Forms 3921 and 3922, Administration's Proposals—Tax Information Reporting and withholding, expansion of e-Services, federally declared, disaster casualty losses, proposed ETA e-Channel program, Build American Bonds, Form 1098—Mortgage Interest Statement, Form 5498—Reporting for Successor Beneficiaries, Form 945-X, IRM 4.10.21—Examinations, Form 8886—Reportable Transaction Disclosure Statement, Form 1098-T—Tuition Statement, Form 1099-MISC—missing or incorrect TIN, Notice 2009-46—personal usage of employer-provided cell phones, and WHIFTS—Widely Held Fixed Investment Trusts. Last minute agenda changes may preclude advance notice. Due to limited seating and security requirements, please call or email Caryl Grant to confirm your attendance. Ms. Grant can be reached at 202-927-3641 or *public_liaison@irs.gov. Attendees are encouraged to arrive at least 30 minutes before the meeting begins to allow sufficient time for purposes of security clearance. Should you wish the IRPAC to consider a written statement, please call 202-927-3641, or write to: Internal Revenue Service, Office of National Public Liaison, CL:NPL:SRM, Room 7559, 1111 Constitution Avenue, NW., Washington, DC 20224 or e-mail: *public_liaison@irs.gov.

Dated: September 28, 2009.
Mark Kirbabas,
Branch Chief, National Public Liaison.

[FR Doc. E9-24006 Filed 10-5-09; 8:45 am]

BILLING CODE 4830-01-P